DEPARTMENT OF VETERANS AFFAIRS

[OMB Control No. 2900-0418]

Agency Information Collection Activities Under OMB Review

AGENCY: Office of Acquisition and Materiel Management, Department of Veterans Affairs.

ACTION: Notice.

SUMMARY: In compliance with the Paperwork Reduction Act (PRA) of 1995 (44 U.S.C., 3501 et seq.), this notice announces that the Office of Acquisition and Materiel Management, Department of Veterans Affairs, has submitted the collection of information abstracted below to the Office of Management and Budget (OMB) for review and comment. The PRA submission describes the nature of the information collection and its expected cost and burden; it includes the actual data collection instrument.

DATES: Comments must be submitted on or before December 10, 2001.

FOR FURTHER INFORMATION OR A COPY OF THE SUBMISSION CONTACT: Denise McLamb, Information Management Service (045A4), Department of Veterans Affairs, 810 Vermont Avenue, NW., Washington, DC 20420, (202) 273-8030 or FAX (202) 273-5981 or e-mail to: denise.mclamb@mail.va.gov. Please refer to “OMB Control No. 2900-0418” in any correspondence.

SUPPLEMENTARY INFORMATION: Title: Veterans Affairs Acquisition Regulation (VAAR) Clause 809.106-1 and 809.504(d) and VAAR Clause 852.209-70.

OMB Control Number: 2900-0418.

Type of Review: Reinstatement, with change, of a previously approved collection for which approval has expired.

Abstract: VAAR section 809.106-1 requires the contracting officer to ask a firm being considered for award of a contract for bakery, dairy, or ice cream products or for laundry or dry cleaning services whether or not the firm's plant has recently been inspected by another Federal agency and, if so, which agency. The information is used by the contracting officer to determine whether or not a separate inspection of the firm's plant must be conducted by VA prior to contract award. Paragraph (d) of VAAR section 809.504 and VAAR clause 852.209-70 require offerors on solicitations for management support and consulting services to advise, as part of the firm's offer, whether or not award of the contract to the firm might involve a conflict of interest and, if so, to disclose all relevant facts regarding the conflict. The information is used by the contracting officer to determine whether or not to award a contract to the firm or, if a contract is to be awarded despite a potential conflict, whether or not additional contract terms and conditions are necessary to mitigate the conflict.

An agency may not conduct or sponsor, and a person is not required to respond to a collection of information unless it displays a currently valid OMB control number. The Federal Register Notice with a 60-day comment period soliciting comments on this collection of information was published on August 14, 2001, at pages 42708 and 42709.

Affected Public: Business or other for profit, individuals or households, and not-for-profit institutions.

Estimated Annual Burden:

a. VAAR section 809.106-1—30 hours.

b. Paragraph (d) of VAAR section 809.504 and VAAR clause 852.209-7—1,000 hours.

Estimated Average Burden Per Respondent:

a. VAAR section 809.106-1—3 minutes.

b. Paragraph (d) of VAAR section 809.504 and VAAR clause 852.209-7—60 minutes.

Frequency of Response: On occasion.

Estimated Number of Respondents:

a. VAAR section 809.106-1—600.

b. Paragraph (d) of VAAR section 809.504 and VAAR clause 852.209-7—1,000.

Send comments and recommendations concerning any aspect of the information collection to VA's OMB Desk Officer, OMB Human Resources and Housing Branch, New Executive Office Building, Room 10235, Washington, DC 20503 (202) 395-7316. Please refer to “OMB Control No. 2900-0418” in any correspondence.

Dated: October 24, 2001.
By direction of the Secretary.
Donald L. Neilson,
Director, Information Management Service.

[FR Doc. 01-28046 Filed 11-7-01; 8:45 am]

BILLING CODE 8320-01-P